DEPARTMENT OF THE INTERIOR

Bureau of Land Management

[NV912-07-1990-PO-241A-006F]

Sierra Front-Northwestern Great Basin Resource Advisory Council; Notice of a Change in Meeting Time

AGENCY: Bureau of Land Management, Interior.

ACTION: Notice of a change in a previously announced meeting time for the Sierra Front-Northwestern Great Basin Resource Advisory Council (Nevada).

SUMMARY: In accordance with the Federal Land Policy and Management Act and the Federal Advisory Committee Act of 1972 (FACA), a meeting of the U.S. Department of the Interior, Bureau of Land Management (BLM) Sierra Front-Northwestern Great Basin Resource Advisory Council (RAC), Nevada, has been rescheduled as indicated below.

Date & Time: The RAC meeting previously announced in the Federal Register for Wednesday-Thursday, February 7-8, 2007, at the BLM-Carson City Field Office, 5665 Morgan Mill Road, Carson City, Nevada, has been postponed to Wednesday-Thursday, April 4-5, 2007. The location of the meeting and the agenda topics will not change and remains open to the public. A general public comment period, where the public may submit oral or written comments to the RAC, will be held at 4 p.m. on April 4, 2007.

The final RAC agenda, with any additions/corrections to agenda topics, the starting and ending times of meetings, and details of any planned field trips, will be determined/posted at least two weeks before the meeting on the BLM-Nevada State Office Web site at http://www.nv.blm.gov/rac; hard copies of the agendas can also be mailed or sent via FAX. Individuals who need special assistance such as sign language interpretation or other reasonable accommodations, or those who wish a hard copy of the agenda, should contact Mark Struble, Carson City Field Office, 5665 Morgan Mill Road, Carson City, NV 89701, telephone (775) 885-6107, no later than two weeks before each two-day meeting.

FOR FURTHER INFORMATION CONTACT: Mark Struble, Public Affairs Officer, BLM Carson City Field Office, 5665 Morgan Mill Road, Carson City, NV 89701. Telephone: (775) 885-6107. E-mail: mstruble@nv.blm.gov.

Dated: January 10, 2007.
Don Hicks,
Field Office Manager, BLM-Carson City Field Office.

[FR Doc. E7-493 Filed 1-16-07; 8:45 am]

BILLING CODE 4310-HC-P